DEPARTMENT OF ENERGY

Funding Opportunity Announcement DE-PS26-06NT15430, Enhanced Oil and Natural Gas Production Through Carbon Dioxide Injection

AGENCY: National Energy Technology Laboratory, Department of Energy (DOE).

ACTION: Notice of release of funding opportunity announcement.

SUMMARY: The DOE will support producers of oil and gas in carrying out projects to inject carbon dioxide for the purpose of enhancing recovery of oil or natural gas, while increasing the sequestration of carbon dioxide (CO2). The National Energy Technology Laboratory's (NETL) Strategic Center for Natural Gas and Oil program mission is to enhance U.S. security by ensuring the Nation has a reliable energy supply. The Strategic Center for Natural Gas and Oil seeks to accomplish this critical goal by advancing environmentally responsible technological solutions that bolster domestic oil and natural gas recovery. Priority will be given to projects in the noted areas of interest—the Williston Basin in North Dakota/Montana and the Cook Inlet Basin in Alaska. This solicitation seeks to maximize U.S. oil and natural gas production in a cost-effective manner through the injection of CO2, while at the same time sequestering significant quantities of CO2. To promote greater use of industrial CO2, additional consideration will be given to those proposals that use anthropogenic CO2 from existing industrial processes for the CO2 flood (e.g., ethanol and gas processing plants, oil refineries, petroleum coke gasification, coal liquefaction, etc.). Projects should clearly set forth the manner in which adverse environmental impacts would be minimized. Finally, the solicitation will give priority programmatic consideration to projects that involve, in a significant way, existing state/regional institutions that have a mandate or significant interest in supporting enhanced oil or natural gas recovery, and reducing the carbon intensity/CO2 emissions in the state and/or region.

DATES:

Funding Opportunity Announcement Issue: 03 Feb 2006.

Proposal Receipt: 05 May 2006.

Selection Notification: 04 Aug 2006.

Award: 30 Sep 2006.

ADDRESSES: See SUPPLEMENTARY INFORMATION section for additional detail.

FOR FURTHER INFORMATION CONTACT: Mary Beth Pearse, Marybeth.pearse@netl.doe.gov.

SUPPLEMENTARY INFORMATION: These specific demonstration projects are Congressionally mandated in the 2005 Energy Policy Act, H.R. 6, Section 354, Subsection (c), with the purpose of promoting the capture, transportation and injection of produced carbon dioxide for sequestration into oil and gas fields, while promoting oil and natural gas production.

Projects selected under this solicitation will add to the technological base by demonstrating technology methods for improving the economic viability and effectiveness of CO2 flooding, capture and sequestration techniques. The efforts will support national air quality goals by answering questions surrounding the increased use of CO2 for enhanced oil and natural gas recovery, while also allowing more CO2 to remain in the geologic formations. The results will provide additional benefits by improving the industry performance and extending the life of producing fields.

Examples of improved recovery technologies will be demonstrated at DOE's CO2 EOR Workshop in Houston, hosted by the Petroleum Technology Transfer Council (PTTC). This workshop is tentatively scheduled for Feb. 22-23, 2006. Please refer to PTTC's Web site at http://www.pttc.org for finalized dates and meeting details.

Address Information: The Funding Opportunity Announcement DE-PS26-06NT15430, Enhanced Oil and Natural Gas Production through Carbon Dioxide Injection, can be found at http://www.e-center.doe.gov or http://grants.gov, after the Funding Opportunity Announcement issue date above.

Issued in Pittsburgh PA on January 19, 2006.
Richard D. Rogus,
Procurement Team Leader.

[FR Doc. E6-1098 Filed 1-27-06; 8:45 am]

BILLING CODE 6450-01-P